NUCLEAR REGULATORY COMMISSION

[Project No. 753, NRC-2011-0136]

Models for Plant-Specific Adoption of Technical Specifications Task Force Traveler TSTF-510, Revision 2, “Revision to Steam Generator Program Inspection Frequencies and Tube Sample Selection”

AGENCY: Nuclear Regulatory Commission.

ACTION: Notice of Availability.

SUMMARY: As part of the consolidated line item improvement process (CLIIP), the U.S. Nuclear Regulatory Commission (NRC) is announcing the availability of the model safety evaluation (SE) for plant-specific adoption of Technical Specifications (TS) Task Force (TSTF) Traveler TSTF-510, Revision 2, “Revision to Steam Generator [(SG)] Program Inspection Frequencies and Tube Sample Selection.” TSTF-510, Revision 2, is available in the Agencywide Documents Access and Management System (ADAMS) under Accession Number ML110610350, and includes a model application. The proposed change revises the Improved Standard Technical Specification (ISTS), NUREGs-1430, -1431, and -1432, Specification 5.5.9, “Steam Generator (SG) Program,” Specification 5.6.7, “Steam Generator Tube Inspection Report,” and the SG Tube Integrity specification (Limiting Condition for Operation (LCO) 3.4.17, LCO 3.4.20, and LCO 3.4.18 in ISTS NUREG-1430, -1431, and -1432, respectively). The proposed changes are necessary to address implementation issues associated with the inspection periods, and address other administrative changes and clarifications. The model SE will facilitate expedited approval of plant-specific adoption of TSTF-510, Revision 2. This TS improvement is part of the CLIIP.

ADDRESSES: You can access publicly available documents related to this notice using the following methods:

• NRC's Public Document Room (PDR): The public may examine and have copied for a fee publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The model SE for plant-specific adoption of TSTF-510, Revision 2, is available electronically under ADAMS Accession Number ML112101513. The NRC staff disposition of comments received to the Notice of Opportunity for Public Comment announced in the Federal Register on June 20, 2011 (76 FR 35923), is available electronically under ADAMS Accession Number ML112101661.

• Federal Rulemaking Web site: Public comments and supporting materials related to this notice can be found at http://www.regulations.gov by searching on Docket ID: NRC-2011-0136.

FOR FURTHER INFORMATION CONTACT: Ms. Michelle C. Honcharik, Senior Project Manager, Licensing Processes Branch, Mail Stop: O-12 D1, Division of Policy and Rulemaking, Office of Nuclear Reactor Regulation, U.S. Nuclear Regulatory Commission, Washington, DC 20555-0001; telephone: 301-415-1774, e-mail: michelle.honcharik@nrc.gov or Mr. Ravinder Grover, Technical Specifications Branch, Mail Stop: O-7 C2A, Division of Inspection and Regional Support, Office of Nuclear Reactor Regulation, U.S. Nuclear Regulatory Commission, Washington, DC 20555-0001; telephone: 301-415-2166, e-mail: ravinder.grover@nrc.gov.

SUPPLEMENTARY INFORMATION: TSTF-510, Revision 2, is applicable to pressurized water reactor plants. The proposed changes revise the ISTS to implement a number of editorial corrections, changes, and clarifications intended to improve internal consistency, consistency with the implementing industry documents, and usability without changing the intent of the requirements. The proposed changes to Specification 5.5.9.d.2 are more effective in managing the frequency of verification of tube integrity and sample selection than those required by current TSs. As a result, the proposed changes will not reduce the assurance of the function and integrity of SG tubes. TS Bases changes that reflect the proposed changes are included.

NRC staff has reviewed the model application included with TSTF-510 and has found it acceptable for use by licensees. Licensees opting to apply for this TS change are responsible for reviewing the NRC staff's SE and the applicable technical justifications, providing any necessary plant-specific information, and assessing the completeness and accuracy of their license amendment request (LAR). The NRC will process each amendment application responding to the NOA according to applicable NRC rules and procedures.

The proposed changes do not prevent licensees from requesting an alternate approach or proposing changes other than those proposed in TSTF-510, Revision 2. However, significant deviations from the approach recommended in this notice or the inclusion of additional changes to the license require additional NRC staff review. This may increase the time and resources needed for the review or result in NRC staff rejection of the LAR. Licensees desiring significant deviations or additional changes should instead submit an LAR that does not claim to adopt TSTF-510, Revision 2.

Dated at Rockville, Maryland, this 19th day of October 2011.
For the Nuclear Regulatory Commission.
John R. Jolicoeur,
Chief, Licensing Processes Branch, Division of Policy and Rulemaking, Office of Nuclear Reactor Regulation.

[FR Doc. 2011-27793 Filed 10-26-11; 8:45 am]

BILLING CODE 7590-01-P